DEPARTMENT OF TRANSPORTATION

Office of the Secretary

Notice of Funding Availability for the Small Business Transportation Resource Center Program; Closing and Award Dates Extended

AGENCY: Department of Transportation (DOT), Office of the Secretary of Transportation (OST), Office of Small and Disadvantaged Business Utilization (OSDBU).

ACTION: Notice of Funding Availability; Extension of closing and award dates

SUMMARY: This action extends the closing and award dates for a Notice of Funding Availability for the Small Business Transportation Resource Center that was published on July19, 2012, 77 FR 36034. USDOT OSDBU is extending the closing date to allow eligible entities time to adequately submit a proposal.

DATES: The submission period for the Notice of Funding Availability published on July 19, 2012 closing on July 31, 2012 is extended until August 13, 2012, 5:00pm Eastern Standard Time. Also, the notice of award for the competed region on or before August 16, 2012 is extended until August 27, 2012.

ADDRESSES: Proposals must be electronically submitted to OSDBU via email at SBTRC@dot.gov.

FOR FURTHER INFORMATION CONTACT: For further information concerning this notice, contact Ms. Patricia Martin, U.S. Department of Transportation, Office of Small and Disadvantaged Business Utilization, 1200 New Jersey Avenue SE. W56-462, Washington, DC, 20590. Telephone: 1-800 532 1169. Email: patricia.martin@dot.gov.

SUPPLEMENTARY INFORMATION: In the June 19, 2012 document (Notice No. USDOT-OST-OSDBU-SBTRC2012-10; Docket Number: DOT-OST-2009-0092), the Department of Transportation (DOT), Office of the Secretary (OST), Office of Small and Disadvantaged Business Utilization (OSDBU) announces the opportunity for; (1) Business centered community-based organizations; (2) transportation-related trade associations; (3) colleges and universities; (4) community colleges or; (5) chambers of commerce, registered with the Internal Revenue Service as 501 C(6) or 501 C(3) tax-exempt organizations, to compete for participation in OSDBU's Small Business Transportation Resource Center (SBTRC) program in the Central Region.

Issued in Washington, DC on July 30, 2012.
Brandon Neal,
Director, Office of Small and Disadvantaged Business Utilization, Office of the Secretary, U.S. Department of Transportation.

[FR Doc. 2012-19022 Filed 8-2-12; 8:45 am]

BILLING CODE 4910-9X-P